DEPARTMENT OF TRANSPORTATION

National Highway Traffic Safety Administration

[Docket No. NHTSA-2022-0044]

Agency Information Collection Activities; Notice and Request for Comment; Field Study of Heavy Vehicle Crash Avoidance Systems

ACTION: Notice and request for public comment on an extension of a currently approved information collection.

SUMMARY: The National Highway Traffic Safety Administration (NHTSA) invites public comments about our intention to request approval from the Office of Management and Budget (OMB) for an extension of a currently approved information collection. Before a federal agency may collect certain information from the public, it must receive approval from OMB. Under procedures established by the Paperwork Reduction Act of 1995, before seeking OMB approval, Federal agencies must solicit public comment on proposed collections of information, including extensions and reinstatements of previously approved collections. This document describes a collection of information for which NHTSA intends to seek OMB extension approval, titled “Heavy Vehicle Crash Avoidance Systems” and identified by OMB Control Number 2127-0741, which is currently approved through August 31, 2022. This project has been delayed due to COVID-19 shutdowns and precautions. The extension is necessary to continue the current data collection to completion. This extension request updates the burden hours to reflect the numbers of respondents that are needed to complete the study, updates to time estimates for responses, and mean hourly rates. Additionally, this notice provides clarification on the burden hours and the costs to the public.

DATES: Comments must be submitted on or before July 11, 2022.

ADDRESSES: You may submit comments using any of the following methods:

• Electronic submissions: Go to http://www.regulations.gov. Follow the online instructions for submitting comments.

• Fax: (202) 493-2251.

• Mail: Docket Management, U.S. Department of Transportation, 1200 New Jersey Ave. SE, West Building, Room W12-140, Washington, DC 20590.

• Hand Delivery: 1200 New Jersey Avenue SE, West Building Ground Floor, Room W12-140, Washington, DC, between 9 a.m. and 5 p.m., Monday through Friday, except Federal holidays. Telephone (202) 366-9322.

Instructions: Each submission must include the Agency name and Docket number identified at the beginning of this document. Note that all comments received will be posted without change to http://www.regulation.gov, including any personal information provided. Please see the Privacy heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://www.dot.gov/privacy.html.

Docket: For access to the docket to read background documents or comments received, go to http://www.regulations.gov, or the street address listed above. Follow the online instructions for accessing the dockets via the internet.

FOR FURTHER INFORMATION CONTACT: Jenny Zhang, Office of Vehicle Safety Research, National Highway Traffic Safety Administration, U.S. Department of Transportation, 1200 New Jersey Avenue SE, Washington, DC 20590, Telephone: 202-366-3973; email address jenny.zhang@dot.gov. Please identify the relevant collection of information by referring to its OMB Control Number.

SUPPLEMENTARY INFORMATION: Under the Paperwork Reduction Act of 1995, before an agency submits a proposed collection of information to OMB for approval, it must first publish a document in the Federal Register providing a 60-day comment period and otherwise consult with members of the public and affected agencies concerning each proposed collection of information. OMB has promulgated regulations describing what must be included in such a document. Under OMB's regulation (at 5 CFR 1320.8(d)), an agency must ask for public comment on the following: (a) Whether the proposed collection of information is necessary for the proper performance of the functions of the agency, including whether the information will have practical utility; (b) the accuracy of the agency's estimate of the burden of the proposed collection of information, including the validity of the methodology and assumptions used; (c) how to enhance the quality, utility, and clarity of the information to be collected; (d) how to minimize the burden of the collection of information on those who are to respond, including the use of appropriate automated, electronic, mechanical, or other technological collection techniques or other forms of information technology, e.g., permitting electronic submission of responses. In compliance with these requirements, NHTSA asks for public comments on the extension of the following collection of information for which the agency is seeking approval from OMB.

Title: Field Study of Heavy Vehicle Crash Avoidance Systems.

Type of Request: Extension of a currently approved information collection.

OMB Control Number: 2127-0741.

Form Number: None.

Type of Review Requested: Regular.

Requested Expiration Date of Approval: Three years from date of approval.

Summary of the Collection of Information: The National Highway Traffic Safety Administration (NHTSA) is gathering information regarding drivers' naturalistic driving experiences and opinions about crash avoidance systems (CAS) consisting of Lane Departure Warning, Forward Collision Warning, Impact Alert, and Automatic Emergency Braking for heavy vehicles.

CAS technology has been advancing rapidly since the conclusion of the previous study, with products for heavy commercial vehicles becoming commercially available. These systems present opportunities for improving driver awareness and behavior, improving drivers' responses to potential collisions, and mitigating or preventing collisions when drivers do not respond. The newest generation of CAS technology includes several new features, such as multiple sensors, improvements to radar algorithms, and new features such as full braking in response to static objects or pedestrians. However, it is unknown if this newest generation of products has been able to reduce the prevalence of false or nuisance alerts observed in the previous study, if there are any issues with new types of alerts that have been added since previous studies, or whether driver have negative perceptions of the technology due to these issues. As these technologies become more popular with fleets, it is important to understand their real-world performance and any unintended consequences that may arise from them.

Data collection began in August 2021 after COVID delays and a shortage of chips necessary for use in the data acquisition system necessary for the naturalistic driving portion of the study. As of December 31, 2021, one respondent has completed the study, three are in the field study portion, and one has completed the informed consent document and pre-field study surveys but still needs to go through the installation portion of stage one and stages two to three of the study. Information in this extension requests refers to the respondents and burden associated with completing the study.

Description of the Need for the Information and Proposed Use of the Information: The collection of information consists of: An informed consent for participation, a demographic questionnaire, an initial CAS technology questionnaire, and a post-study CAS technology questionnaire.

The information to be collected will be used as follows:

• Informed Consent is collected from respondents who agree to participate in the study; the informed consent has been approved by an Institutional Review Board.

• Demographic questionnaire is used to obtain demographic information so that potential analysis may account for participants from various groups (e.g., age, self-identified gender, driving experience, and experience with CAS technology).

• Initial CAS technology questionnaire is used to get information about drivers' beliefs and attitudes towards the CAS technology installed on the commercial vehicle they use for their job prior to data collection. This questionnaire assesses perceived usability of the systems in terms of acceptance and satisfaction, as well as willingness to have this technology in their vehicle.

• Final CAS technology questionnaire is used to get information about drivers' beliefs and attitudes towards the CAS technology installed on the commercial vehicle they use for their job at the end of data collection. These questionnaires will also be used to assess perceived distraction potential of the systems in terms of acceptance and satisfaction, as well as willingness to have this technology in their vehicle. Each driver will complete a post-study questionnaire once, after the completion of his or her data collection. The post-study survey will gauge how drivers' attitudes and preferences may have changed over the course of participation.

• Each participating driver will have a data acquisition system (DAS) installed in their vehicle for approximately three months while they perform their normal work duties. This system will collect video of the driver and forward roadway, telemetry and vehicle network data related to driving, and activations of the vehicle's CAS.

Respondents: Respondents for this study are drawn from a convenience sample from trucking fleets across the United States. Drivers are recruited from fleets that have signed agreements with the research team and have trucks that are outfitted with CAS technologies. Recruitment will attempt to balance the number of vehicles using particular brands of CAS technology but will be subject to fleet availability and scheduling constraints. Requirements of drivers involved in the study do not extend beyond employment requirements for each fleet.

Estimated Number of Respondents: 170 remaining respondents for initial phases of the study; anticipating some drop-out, the end-goal number of remaining respondents is 149.

Estimated Number of Responses: 170 for the consent form (one per respondent); 170 for the Demographic Questionnaire (one per respondent); 170 for the Initial CAS Questionnaire (one per respondent); 149 for the Final CAS Questionnaire (one per respondent) that completes the study.

Estimated Total Annual Burden: 123.6 hours total.

Estimated Frequency: The Informed Consent Form, Demographic Questionnaire, and Initial CAS Technology Questionnaire are completed once at the start of participation and data collection. The Final CAS Technology Questionnaire is completed once at the completion of participation, approximately three months later.

Table 1—Burden Calculations and Estimated Opportunity Cost
Instrument | Number of respondents | Estimated time for completion | Total estimated burden hours † | Hourly wage | Estimated total opportunity cost
Stage One:
Informed Consent Form | 170 | 20 | 57 hours | $23.42 | $1,334.94
Demographic Questionnaire | 170 | 5 | 15 hours | 23.42 | 351.30
Initial CAS Technology Questionnaire | 170 | 25 | 71 hours | 23.42 | 1,662.82
Stage Two:
Naturalistic Driving Study | 171 | N/A | N/A | N/A | N/A
Stage Three:
Final CAS Technology Questionnaire | 149 | 25 | 63 hours | 23.42 | 1,475.46
Total Burden Remaining |  |  | 206 hours |  | 4,824.52
Months Remaining |  |  | 20 |  |
Annual Burden Remaining |  |  | 123.6 hours |  | 2,894.71

The above table reflects the annual burden hours to be 123.6 to complete data collection. While the table reflects opportunity costs, this is not a burden incurred by the public for this information collection. The annual burden cost to respondents is zero.

The previous notice estimated total burden hours for this study to be 193.5 total. The total number of burden hours to complete data collection is now 206 based on updates to the time for the Informed Consent and the Demographic Questionnaire. Opportunity costs have been updated to reflect current average hourly wages; however, this is not a burden to respondents for the information collection.

Due to COVID-19 shutdowns and precautions, data collection efforts were suspended. NHTSA anticipates additional time beyond the August 31, 2022, expiration date of the currently approved collection to complete this effort. The federal government began this study at $2,581,075 in contract expenses and has added expenses due to the time delays and resulting changes in technology. The total cost expected at this time is $2,954,970 with an annualized cost to the federal government over the expected study time-to-completion of $402,950.

Public Comments Invited: You are asked to comment on any aspect of this information collection, including (a) Whether the proposed collection of information is necessary for the Department's performance; (b) the accuracy of the estimated burden; (c) ways for the Department to enhance the quality, utility, and clarity of the information collection; and (d) ways that the burden could be minimized without reducing the quality of the collected information. The agency will summarize and/or include your comments in the request for OMB's clearance of this information collection.

Authority: The Paperwork Reduction Act of 1995, 44. U.S.C. Chapter 35, as amended; 5 CFR part 1320; and 49 CFR 1.95.

Issued in Washington DC.
Cem Hatipoglu,
Associate Administrator for Vehicle Safety Research.

[FR Doc. 2022-10012 Filed 5-9-22; 8:45 am]

BILLING CODE 4910-59-P